FEDERAL COMMUNICATIONS COMMISSION

[CG Docket No. 03-123; DA 08-1673]

Notice of Certification of State Telecommunications Relay Service (TRS) Programs

AGENCY: Federal Communications Commission.

ACTION: Notice.

SUMMARY: In this document, the Consumer & Governmental Affairs Bureau (Bureau) grants certification of fifty states', two territories', and the District of Columbia's TRS programs. The current certification for state TRS programs expires this year. This action certifies state TRS programs for the next five years, pursuant to the Commission's rules.

DATES: Certifications effective July 26, 2008, through July 25, 2013.

FOR FURTHER INFORMATION CONTACT: Diane Mason, (202) 418-7126 (voice), (202) 418-7828 (TTY), or e-mail: Diane.Mason@fcc.gov.

SUPPLEMENTARY INFORMATION: This is a summary of the Bureau's public notice DA 08-1673, released July 16, 2008, in CG Docket No. 03-123. The full text of document DA 08-1673 is available for public inspection and copying during regular business hours at the FCC Reference Information Center, Portals II, 445 12th Street, SW., Room CY-A257, Washington, DC 20554. It also may be purchased from the Commission's duplicating contractor at Portals II, 445 12th Street, SW., Room CY-B402, Washington, DC 20554; the contractor's Web site, http://www.bcpiweb.com; or by calling (800) 378-3160.

To request materials in accessible formats for people with disabilities (Braille, large print, electronic files, audio format), send an e-mail to fcc504@fcc.gov or call the Consumer & Governmental Affairs Bureau at (202) 418-0530 (voice) or (202) 418-0432 (TTY). Document DA 08-1673 can also be downloaded in Word or Portable Document Format (PDF) at: http://www.fcc.gov/cgb/dro/trs.html. In addition, the applications for certification may be viewed on the Bureau's Disability Rights Office Web site at http://www.fcc.gov/cgb/dro/trs_by_state.html .

Synopsis

The applications for certification of TRS programs of the states, territories, and the District of Columbia listed below (hereinafter, “states”) have been granted, pursuant to Title IV of the Americans with Disabilities Act (ADA), 47 U.S.C. 225(f)(2), and 47 CFR 64.606(b). On the basis of the state applications, the Bureau has determined that:

(1) The TRS program of the states meet or exceed all operational, technical, and functional minimum standards contained in 47 CFR 64.604;

(2) The TRS programs of the listed states make available adequate procedures and remedies for enforcing the requirements of the state program; and

(3) The TRS programs of the listed states in no way conflict with federal law.

The Bureau also has determined that, where applicable, the intrastate funding mechanisms of the listed states are labeled in a manner that promotes national understanding of TRS and does not offend the public, consistent with 47 CFR 64.606(d).

Because the Commission may adopt changes to the rules governing relay programs, including state relay programs, the certification is conditioned on a demonstration of compliance with any additional new rules that are adopted by the Commission. The Commission will provide guidance to the states on demonstrating compliance with such rule changes.

In response to the public notice seeking comment on the applications for certification of state TRS programs, Applications for Certification as Certified State Telecommunications Relay Service (TRS) Programs Filed; Pleading Cycle Established for Comment on Applications, CG Docket No. 03-123, DA 08-60, published at 73 FR 9118, February 19, 2008, the Commission received 84 comments, all of which address Speech-to-Speech (STS) outreach. As part of their applications for certification, states were required to submit specific examples of all outreach activities, including those targeted to users and receivers of STS services. We reviewed each of the outreach plans submitted by the states in conjunction with each of the applications listed below and found them to be in compliance with the Commission's requirements. The Bureau reminds states receiving certification of their continued obligation to engage in outreach activities, or to ensure that their contracted TRS providers conduct outreach in accordance with 47 CFR 64.604(c)(3).

This certification, as conditioned, shall remain in effect for a five year period, beginning July 26, 2008, and ending July 25, 2013, pursuant to 47 CFR 64.606(c). One year prior to the expiration of this certification, beginning July 25, 2012, the states may apply for renewal of their TRS program certification by filing documentation in accordance with the 47 CFR 64.606(a) and (b). States Approved for Certification:

File No: TRS-46-07, Alabama Public Service Commission, State of Alabama | File No: TRS-19-07, Department of Commerce, State of Alaska.
File No: TRS-47-07, Arkansas Deaf and Hearing Impaired, State of Arkansas | File No: TRS-02-07, Commission for the Deaf and Hard of Hearing, State of Arizona.
File No: TRS-32-07, California Public Utilities Commission, State of California | File No: TRS-23-07, Colorado Public Utilities Commission, State of Colorado.
File No: TRS-48-07, Connecticut Department of Public Utility, State of Connecticut | File No: TRS-35-07, Delaware Public Service Commission, State of Delaware.
File No: TRS-49-07, Public Service Commission, District of Columbia | File No: TRS-50-07, Florida Public Service Commission, State of Florida.
File No: TRS-51-07, Georgia Pubic Service Commission, State of Georgia | File No: TRS-22-07, Hawaii Public Utilities Commission, State of Hawaii.
File No: TRS-43-07, Idaho Public Service Commission, State of Idaho | File No: TRS-10-07, Illinois Commerce Commission, State of Illinois.
File No: TRS-08-07 Indiana Telephone Relay Access Corporation, State of Indiana | File No: TRS-03-07, Iowa Utilities Board, State of Iowa.
File No: TRS-07-07, Kansas Relay Services, Inc., State of Kansas | File No: TRS-52-07, Kentucky Public Service Commission, Commonwealth of Kentucky.
File No: TRS-13-07, Louisiana Relay Administration Board, State of Louisiana | File No: TRS-53-07, Maine Public Utilities Commission, State of Maine.
File No: TRS-33-07, Telecommunications Access of Maryland, State of Maryland | File No: TRS-34-07, Department of Telecommunications and Energy, Commonwealth of Massachusetts.
File No: TRS-54-07, Michigan Public Service Commission, State of Michigan | File No: TRS-39-07, Minnesota Department of Commerce, State of Minnesota.
File No: TRS-55-07, Mississippi Public Service Commission, State of Mississippi | File No: TRS-15-07, Missouri Public Service Commission, State of Missouri.
File No: TRS-56-07, Telecommunications Access Program, State of Montana | File No: TRS-40-07, Nebraska Public Service Commission, State of Nebraska.
File No: TRS-25-07, Relay Nevada, State of Nevada | File No: TRS-42-07, New Hampshire Public Service Commission, State of New Hampshire.
File No: TRS-45-07, New Jersey Board of Utilities, State of New Jersey | File No: TRS-14-07, Commission for the Deaf and Hard of Hearing, State of New Mexico.
File No: TRS-16-07, New York State Department of Public Service, State of New York | File No: TRS-30-07, Department of Health and Human Service, State of North Carolina.
File No: TRS-12-07, Information Technology Department, State of North Dakota | File No: TRS-37-07, Public Utilities Commission of Ohio, State of Ohio.
File No: TRS-57-07, Oklahoma Telephone Association, State of Oklahoma | File No: TRS-36-07, Oregon Public Utilities Commission, State of Oregon.
File No: TRS-58-07, Pennsylvania Bureau of Consumer Services, Commonwealth of Pennsylvania | File No: TRS-28-07, Telecommunications Regulatory Board, Puerto Rico.
File No: TRS-59-07, Division of Public Utilities and Carriers, State of Rhode Island | File No: TRS-11-07, South Carolina Office of Regulatory Staff, State of South Carolina.
File No: TRS-60-07, Department of Human Services, State of South Dakota | File No: TRS-20-07, Tennessee Regulatory Authority, State of Tennessee.
File No: TRS-17-07, Texas Public Utility Commission, State of Texas | File No: TRS-61-07, Virgin Islands Public Services Commission, U.S. Virgin Islands.
File No: TRS-09-07, Public Service Commission, State of Utah | File No: TRS-44-07, Vermont Department of Public Service, State of Vermont.
File No: TRS-04-07, Department for the Deaf and Hard of Hearing, Commonwealth of Virginia | File No: TRS-27-07, Office of the Deaf and Hard of Hearing, State of Washington.
File No: TRS-06-07, Public Service Commission of West Virginia, State of West Virginia | File No: TRS-01-07, Wisconsin Department of Administration, State of Wisconsin.
File No: TRS-18-07, Division of Vocational Rehabilitation, State of Wyoming

Federal Communications Commission.
Nicole McGinnis,
Deputy Chief, Consumer & Governmental Affairs Bureau.

[FR Doc. E8-17695 Filed 7-31-08; 8:45 am]

BILLING CODE 6712-01-P